DEPARTMENT OF THE INTERIOR

Office of the Assistant Secretary—Water and Science; Central Utah Project Completion Act; Notice of Availability of the Finding of No Significant Impact on the Final Environmental Assessment for the Diamond Fork System Proposed Action Modifications Documenting the Department of the Interior's Approval for the Central Utah Water Conservancy District to Proceed With the Construction of the Diamond Fork System Proposed Action Modifications

AGENCY: Office of the Assistant Secretary—Water and Science, Department of the Interior.

ACTION: Notice of availability of the Finding of No Significant Impact on the Final Environmental Assessment for the Diamond Fork System Proposed Action Modifications.

SUMMARY: On June 15, 2000, Ronald Johnston, Program Director, Central Utah Project Completion Act, Department of the Interior (Interior), signed the Finding of No Significant Impact (FONSI) which documents the selection of the Proposed Action Modifications as presented in the Final Environmental Assessment for the Diamond Fork System Proposed Action Modifications (Modifications EA). Interior has determined that implementing the modifications to the Proposed Action Alternative described in the Modifications EA will not have a significant impact on the quality of the human environment and that an environmental impact statement is not required. The Proposed Action Alternative was described in the July 1999 Diamond Fork System Final Supplement to the Final Environmental Impact Statement (FES 99-25) (FS-FEIS).

The FONSI also approves the Central Utah Water Conservancy District (CUWCD) proceeding with construction of the Diamond Fork System, in accordance with statutory and contractual obligations. The following features will be constructed as part of the modifications to the Proposed Action: (1) Sixth Water Connection to Upper Diamond Fork Shaft, (2) Sixth Water Shaft, (3) Upper Diamond Fork Flow Control Structure, (4) Upper Diamond Fork Tunnel, (5) Monks Hollow Overflow Structure, (6) Diamond Fork Creek Outlet, (7) Diamond Fork Pipeline Extension, (8) Connection to Diamond Fork Pipeline, and (9) Access Road and Road Reconstruction.

The Proposed Action Modifications will be operated on an interim basis the same as described in the FS-FEIS, including the quantity and timing of minimum streamflows and the flexibility to other operational scenarios, except for the discharge location of the minimum streamflows into Diamond Fork Creek. The potential for generating hydroelectric power would remain the same as described in the FS-FEIS.

A Notice of Availability of the Draft Modiciations EA was published in the March 20, 2000, Federal Register (Volume 65, Number 54, Page 14998-14999), and a copy of the Draft Modifications EA was sent to all the agencies, groups, and individuals who received a copy of the FS-FEIS on March 24, 2000. Comments on the Draft Modifications EA were due on April 27, 2000.

FOR FURTHER INFORMATION CONTACT: Additional information on matters related to this Federal Register notice can be obtained at the address and telephone number set forth below: Mr. Reed Murray, Program Coordinator, CUP Completion Act Office, Department of the Interior, 302 East 1860 South, Provo UT 84606-6154, Telephone: (801) 379-1237, E-mail rmurray@uc.usbr.gov

Dated: June 1, 2000.
Ronald Johnston,
Program Director, Department of the Interior.

[FR Doc. 00-14813 Filed 6-12-00; 8:45 am]

BILLING CODE 4310-RK-M